DEPARTMENT OF TRANSPORTATION

Federal Aviation Administration

Public Notice for Wavier of Aeronautical Land-Use Assurance, Chippewa County International Airport, Sault Ste. Marie, MI

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of 2 parcels of land, totaling approximately 17.89 acres. Current use and present condition is undeveloped land compatible with local commercial zoning classification. The land was acquired under the Military Installation Conversion Program, Federal Property and Administrative Services Act of 1949, Surplus Property Act of 1944. There are no impacts to the airport by allowing the airport to dispose of the property. Subject parcels may provide good commercial development opportunities for the community and are well outside airport perimeter fence limits. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before February 24, 2005.

FOR FURTHER INFORMATION CONTACT: Mr. Marlon D. Peña, Program Manager, Federal Aviation Administration, Great Lakes Region, Detroit Airports District Office, DET-ADO 610, 11677 South Wayne Road, Romulus, Michigan 48174. Telephone Number (734) 229-2909/FAX Number (734) 229-2950. Documents reflecting this FAA action may be reviewed at this same location or at Chippewa County International Airport, Sault Ste. Marie, Michigan.

SUPPLEMENTARY INFORMATION: Following is a legal description of the property located in Sault Ste. Marie, Chippewa County, Michigan, and described as follows:

Parcel 1

That portion of the following described parcel lying north and west of the centerline of Kallio Road: Part of the East 400 feet of the Southeast ¼ of the Southeast ¼, Section 25, Town 45 North, Range 2 West, Kinross Township, Cippewa County, Michigan, more particularly described as beginning at the Southeast corner of said Section 25; thence N01°39′02″E 232.00 feet along the East line of said Section 25 to the Southeast corner of a parcel as described in a document recorded in Llber 151, page 204, Cipppewa County Records; thence N01°39′02″E 133.22 feet along the West line of said parcel to the Southwesterly line of Highway M-80; thence northwesterly 325.30 feet along a curve to the right in said Southwesterly line, having a radius of 2924.69 feet, a central angle of 06°21′11″ and a long chord bearing N53°48′29″W 324.13 feet to the West line of said East 400 feet; thence S01°39′02″W 547.04 feet along said West line to the South line of said Section 25; thence S88°04′02″E 400.00 feet to the point of beginning.

Parcel 2

Part of the East 600 feet of the North 1620 feet of the North ½ of section 36, Town 45 North, Range 2 West, Kinross Township, Chippewa County, Michigan, more particularly described as commencing at the Northeast corner of said Section 36; thence S01°19′41″W 1620.09 feet along the East line of said Section 36 to the point of beginning; thence N74°04′35″W 172.64 feet; thence N31°37′27″W 308.53 feet; thence N16°42′30″E 417.85 feet; thence N01°10′10″E 595.54 feet to the North line of said Section 36, thence N88°04′02″W 382.80 feet along said North line to the West line of said East 600 feet; thence S01°19′41″W 1620.09 feet along said West line to the South line of said North 1620 feet; thence S88°04′02″E 600.03 feet along said South line to the East line of said section 36; thence N01°19′41″E 321.60 feet along said East line to the point of beginning.

Issued in Romulus, Michigan on January 25, 2005.
Irene R. Porter,
Manager, Detroit Airports District Office, FAA, Great Lakes Region.

[FR Doc. 05-4527 Filed 3-8-05; 8:45 am]

BILLING CODE 4910-13-M